DEPARTMENT OF TRANSPORTATION

Federal Railroad Administration

[Docket No. FRA 2001-9972; Formerly FRA Docket No. 87-2; Notice No. 11]

RIN 2130-AB20

Automatic Train Control (ATC) and Advanced Civil Speed Enforcement System (ACSES); Northeast Corridor (NEC) Railroads

AGENCY: Federal Railroad Administration (FRA), Department of Transportation (DOT).

ACTION: Amendment to Order of Particular Applicability Requiring ACSES between New Haven, Connecticut and Boston, Massachusetts—Extended and Amended Massachusetts Bay Transit Authority (MBTA) Temporary Operating Protocols and New CSX Transportation (CSXT) Temporary Operating Protocols.

SUMMARY: FRA amends its Order of Particular Applicability requiring all trains operating on the Northeast Corridor (NEC) between New Haven, Connecticut and Boston, Massachusetts (NEC—North End) to be equipped to respond to the new Advanced Civil Speed Enforcement System (ACSES) system by setting a new compliance date for the Order. An exception previously granted to MBTA for use of unequipped and failed locomotives will be extended until February 1, 2002; and a similar exception will be extended to CSXT freight trains through September 16, 2001. This action is necessitated by delays in equipping of trains and finalization of software modifications that will support more efficient operations. The amendments also specify temporary operating protocols to minimize the impact of ACSES on MBTA and CSXT service during the initial implementation of ACSES on the NEC-North End.

DATES: The amendments to the Order are effective June 28, 2001.

FOR FURTHER INFORMATION CONTACT: W. E. Goodman, Staff Director, Signal and Train Control Division, Office of Safety, Mail Stop 25, FRA, 1120 Vermont Avenue, NW., Washington, DC 20590 ((202) 493-6325); Paul Weber, Railroad Safety Specialist, Signal and Train Control Division, Office of Safety, Mail Stop 25, FRA, 1120 Vermont Avenue, NW., Washington, DC 20590 ((202) 493-6258); or Patricia V. Sun, Office of Chief Counsel, Mail Stop 10, 1120 Vermont Avenue, NW., Washington, DC 20590 ((202) 493-6038).

FRA will file the July 22, 1998 Order of Applicability and its subsequent amendments (formerly Docket 87-2, Notices 7-10; respectively 63 FR 39343, July 22, 1998; 64 FR 54410, October 6, 1999; 65 FR 62795, October 19, 2000; and 66 FR 1718, January 9, 2001) in DOT's new electronic docket system. This new system allows the public access through the internet to all documents filed in a particular proceeding. Docket No. 2001-9972 may be accessed through the Department of Transportation's Docket Management System website at http://dms.dot.gov.

For instructions on how to use this system, visit the Docket Management System Web Site and click on the “Help” menu. This docket is also available for inspection or copying at room PL-401 on the plaza level of the Nassif Building at the U.S. Department of Transportation, 400 7th Street, SW., Washington, DC 20590-0001, during regular business hours.

SUPPLEMENTARY INFORMATION: The Order of Particular Applicability, as published on July 22, 1998, set performance standards for cab signal/automatic train control and ACSES systems, increased certain maximum authorized train speeds, and contained safety requirements supporting improved rail service on the NEC. 63 FR 39343. Among other requirements, the Order required all trains operating on track controlled by the National Railroad Passenger Corporation (Amtrak) between New Haven, Connecticut and Boston, Massachusetts (NEC—North End) to be controlled by locomotives equipped to respond to ACSES by October 1, 1999. In three later notices, FRA amended the Order to reset the implementation schedule and make technical changes. 64 FR 54410, October 6, 1999; 65 FR 62795, October 19, 2000; and 66 FR 1718, January 9, 2001.

MBTA and CSXT Temporary Operating Protocols

FRA is making the amendments to this Order effective upon publication instead of 30 days after the publication date in order to realize the significant safety and transportation benefits afforded by the ACSES system at the earliest possible time. All affected parties have been notified. The temporary protocols specified below will provide a safe, operationally sound transition to full ACSES implementation on MBTA and CSXT territory while minimizing the impact on MBTA and CSXT service.

FRA is not reopening the comment period since these technical changes will be effective only until February 1, 2002 for MBTA, and September 16, 2001 for CSXT. Immediate action is necessary to avoid disruption of rail service. Under these circumstances, delaying the effective date of these amendments to allow for notice and comment would be impracticable, unnecessary, and contrary to the public interest. FRA will continue to monitor the progress of MBTA and CSXT towards equipping and maintaining sufficient units to run all trains with operative ACSES and will determine later if any further relief is needed.

FRA expects MBTA and CSXT to make every effort to run ACSES-equipped trains during the period that these protocols are in effect; this additional time should be sufficient for MBTA and CSXT to complete implementation of ACSES. However, if MBTA and CSXT cannot dispatch a train equipped with ACSES, they may revert to the train control methods and maximum operating speeds in effect prior to the effective date of this Order. The more restrictive conditions will apply to all trains in the affected territory (New Haven, Connecticut to Canton Junction, Massachusetts).

Amtrak (as the contractor for commuter rail service on MBTA) must make periodic reports on MBTA's implementation process in an agreed-upon format to FRA; Amtrak and CSXT must also make such reports on CSXT's implementation process (since these reports will come from only two entities, no analysis of the paperwork burden is necessary) for the duration of their respective periods of relief from the original terms of the order.

Amtrak and MBTA must determine the cause(s) of any equipment failure and remedy the cause as soon as practicable without delaying or disrupting rail passenger service. If necessary, determining the cause of the failure must include downloading data in the on-board memory unit and reviewing it to determine the sequence of events and the nature of the fault.

Amtrak may not cut over to ACSES implementation from Milepost 214.0, Canton Junction, Massachusetts to Milepost 228.0, Cove, Massachusetts, until the Regional Administrator for Region 1 of FRA's Office of Safety has determined that appropriate preparations have been made to support application of the Order to that territory. Operation under ACSES in this territory will require equipping of additional MBTA locomotives (including cab control cars) to avoid negative impacts on equipment availability. Amtrak and MBTA are working together to complete equipping of the MBTA fleet.

During the relief period, CSXT will test new Amtrak operational software on three CSXT ACSES-equipped locomotives. CSXT will then monitor the performance of these locomotives for mechanical and operational problems. After the software has been approved, CSXT will install it on the remaining CSXT locomotives.

Accordingly, for the reasons stated in the preamble, the Final Order of Particular Applicability published at 63 FR 39343, July 22, 1998 (Order) is amended as follows:

1. The authority for the Order continues to read as follows: 49 U.S.C. 20103, 20107, 20501-20505 (1994); and 49 CFR 1.49(f), (g), and (m).

2. Paragraph 11 is amended as follows:

11. Massachusetts Bay Transit Authority (MBTA) Temporary Operating Protocols.

(a) Effective upon June 28, 2001 until February 1, 2002, Amtrak must adhere to the following procedures if it becomes necessary to dispatch an MBTA train from its initial terminal with inoperative onboard ACSES equipment:

(1) The train dispatcher must verbally authorize the movement;

(2) The train dispatcher must issue a temporary speed restriction to limit the speed of high speed trains (Amtrak trains hauled by electric locomotives or electric power cars) to 110 miles per hour (mph) in the ACSES territory where the MBTA train with inoperative ACSES equipment will operate; and

(3) Once the MBTA train with inoperative ACSES equipment is verified to have cleared the ACSES territory, the train dispatcher may cancel the 110 mph speed restriction.

(b) The procedures set forth in subparagraph (a) of this paragraph must also be followed if it becomes necessary to dispatch an MBTA train from its initial terminal with a locomotive or control car that is not equipped with onboard ACSES equipment, if no ACSES-equipped MBTA locomotive or control car is available.

(c) Amtrak must promptly notify the regional headquarters office for Region 1 of FRA's Office of Safety of any invocations of this protocol. Included in the notification must be the date, time, and location of the incident, and the reason for invoking the protocol.

(d) Amtrak and MBTA shall determine the cause(s) of any equipment failure and remedy the cause as soon as practicable without delaying or disrupting rail passenger service.

(e) Amtrak shall make periodic reports on the implementation process in an agreed-upon format to the FRA.

(f) Amtrak shall not place ACSES in service from Milepost 214.0, Canton Junction, Massachusetts, to Milepost 228.0, Cove, Massachusetts, until it has been determined that appropriate preparations have been made to support application of the Order to that territory. This determination will be made by the Regional Administrator for Region 1 of FRA's Office of Safety.

3. Paragraph 12 is added to read as follows:

12. CSX Transportation (CSXT) Temporary Operating Protocols.

(a) Effective upon June 28, 2001 until September 16, 2001, CSXT must adhere to the following protocols if it becomes necessary to dispatch a CSXT train from its initial terminal with inoperative onboard ACSES equipment:

(1) The train dispatcher must verbally authorize the movement; and

(2) The train dispatcher must issue a temporary speed restriction to limit the speed of high speed trains (Amtrak trains hauled by electric locomotives or electric power cars) to 110 mph in the ACSES territory where the CSXT train without operative ACSES equipment will operate.

(3) Once the CSXT train without operative ACSES equipment is verified to have cleared the ACSES territory, the train dispatcher may cancel the 110 mph speed restriction.

(b) Amtrak and CSXT shall make periodic reports on the implementation process in an agreed-upon format to the FRA.

Issued in Washington, DC on June 25, 2001.
S. Mark Lindsey,
Acting Deputy Administrator.

[FR Doc. 01-16281 Filed 6-27-01; 8:45 am]

BILLING CODE 4910-06-P